SMALL BUSINESS ADMINISTRATION

[Disaster Declaration #11958 and #11959]

Arkansas Disaster Number AR-00036

AGENCY: U.S. Small Business Administration.

ACTION: Amendment 1.

SUMMARY: This is an amendment of the Administrative declaration of disaster for the State of Arkansas, dated 12/04/2009.

Incident: Severe Storms, Tornadoes and Flooding.

Incident Period: 10/29/2009 through 11/08/2009.

Effective Date: 12/17/2009.

Physical Loan Application Deadline Date: 02/02/2010.

EIDL Loan Application Deadline Date: 09/04/2010.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Administrative disaster declaration for the State of Arkansas, dated 12/04/2009 is hereby amended to establish the incident period for this disaster as beginning 10/29/2009 and continuing through 11/08/2009.

All other information in the original declaration remains unchanged.

(Catalog of Federal Domestic Assistance Numbers 59002 and 59008)

Dated: December 17, 2009.
Karen G. Mills,
Administrator.

[FR Doc. E9-30708 Filed 12-28-09; 8:45 am]

BILLING CODE 8025-01-P